DEPARTMENT OF HEALTH AND HUMAN SERVICES

Substance Abuse and Mental Health Services Administration

Fiscal Year (FY) 2014 Funding Opportunity

AGENCY: Substance Abuse and Mental Health Services Administration, HHS.

ACTION: Notice of intent to award a single source grant to Special Service for Groups, Inc. (SSG)

SUMMARY: This notice is to inform the public that the Substance Abuse and Mental Health Services Administration (SAMHSA) intends to award $520,000 (total costs) per year for the remaining two years of the APAIT Health Center grant. The original grant was awarded to APAIT Health Center in FY 2013 in response to the Request for Applications (RFA) TI-13-011: Substance Abuse Treatment for Racial/Ethnic Minority Women at High Risk for HIV/AIDS (TCE:HIV Minority Women). Additional information on this program can be found in the original funding announcement, TI-13-011, http://www.samhsa.gov/grants/2013/ti-13-011.aspx.

APAIT Health Center relinquished their grant in November 2013 and Special Service for Groups, Inc. took over APAIT's operations and activities in the same geographic area as APAIT Health Center. SSG submitted an application in response to SAMHSA's Request for Applications (RFA) #TI-14-011, in which SSG provided documentation of their capabilities to maintain a comprehensive, integrated, trauma-informed, women-centered outpatient substance abuse treatment system of care. SSG and their partnering provider organizations meet the needs of the population of focus, as stated in the original application. Special Service for Groups, Inc. must continue to use awarded funds to provide a comprehensive, integrated, trauma-informed, women-centered outpatient substance abuse treatment service system of care as described in the 2013 RFA. SSG will use awarded funds to conduct the required activities as stated in the original application.

Funding Opportunity Title: TI-14-011.

Catalog of Federal Domestic Assistance (CFDA) Number: 93.243.

Authority: Section 509 of the Public Health Service Act, as amended.

Justification: Eligibility for this award is limited to Special Service for Groups, Inc. SSG is in the unique position to assume the FY 2013 TCE-HIV: Minority Women grant relinquished by APAIT Health Center because:

• Special Service for Groups, Inc. has been approved by SAMHSA/CSAT Grants Management as the replacement grantee for the remainder of the current budget period (12-18-2013 to 8-30-2014).

• SSG's service delivery includes the necessary and required integrated system of care to provide each of the services described in the original application.

• SSG has taken over the operations of APAITH Health Center and is similar to APAITH Health Center; it is also located at the same geographic area as APAIT Health Center, serving individuals within the same county which allows for the continued provision of services without interruption.

• SSG's proposed key personnel have experience as key personnel on current and previous SAMHSA TCE-HIV grants.

Contact: Cathy Friedman, Substance Abuse and Mental Health Services Administration, 1 Choke Cherry Road, Room 8-1097, Rockville, MD 20857; telephone: (240) 276-2316; email: cathy.friedman@samhsa.hhs.gov.

Cathy J. Friedman,
SAMHSA Public Health Analyst.

[FR Doc. 2014-10835 Filed 5-9-14; 8:45 am]

BILLING CODE 4162-20-P